DEPARTMENT OF THE INTERIOR

Fish and Wildlife Service

AGENCY: Fish and Wildlife Service, Department of the Interior.

ACTION: Notice of availability of the Draft Comprehensive Conservation Plan/Environmental Assessment for Hobe Sound National Wildlife Refuge, located in Martin County, Florida.

SUMMARY: The Fish and Wildlife Service announces that a Draft Comprehensive Conservation Plan/Environmental Assessment for Hobe Sound National Wildlife Refuge is available for review and comment. This document has been prepared pursuant to the National Wildlife Refuge System Improvement Act of 1997, and the National Environmental Policy Act of 1969. It describes the Service's proposal for managing the refuge over the next 15 years.

DATES: A public meeting will be held to present the plan and obtain comments. The date, time, and location of this meeting will be announced via the local media and by special mailings. For information concerning the meeting, contact the Hobe Sound National Wildlife Refuge at 772/546-6141.

Comments regarding the draft plan must be received within 45 days following the date of this notice. Comments should be sent to David Erickson, Fish and Wildlife Service, 1875 Century Boulevard, Suite 420, Atlanta, GA 30345, or you may send your comments by electronic mail to david_erickson@fws.gov, with a subject line, “Comments: HSNWR.” Please include your name and return address in the message.

ADDRESSES: You may request a copy of the draft plan by writing Mr. Erickson at the above address or by calling 404/679-7176. The draft plan/environmental assessment may also be accessed and downloaded from the Service's Internet Web site: http://southeast.fws.gov/planning. If you wish to be placed on the mailing list to receive future information about the plan, we must have your written permission, since under the Freedom of Information Act of 1974, Federal government mailing lists must be released to the public upon request.

FOR FURTHER INFORMATION CONTACT: Margo Stahl, Refuge Manager, Hobe Sound National Wildlife Refuge, P.O. Box 645, Hobe Sound, FL 33475-0645; Telephone: 772/546-6141.

SUPPLEMENTARY INFORMATION: The 1,160-acre Hobe Sound National Wildlife Refuge is important for the conservation of threatened and endangered species, namely nesting loggerhead, green, and leatherback sea turtles on the Jupiter Island portion of the refuge, as well as more than 40 other rare species including the gopher tortoise, scrub jay, and eastern indigo snake; and wildlife and plants associated with the sand pine scrub community on the mainland portion of the refuge. The West Indian manatee and other aquatic species are associated with the Indian River Lagoon, a national estuary that bisects the refuge.

The environmental assessment evaluated four alternatives for addressing key management issues at the refuge: Alternative 1, Maintain Current Management; Alternative 2, Ecosystem Emphasis; Alternative 3, Biological Emphasis; and Alternative 4, Public Use Emphasis. Alternative 2, Ecosystem Emphasis, is the proposed action for managing the refuge.

Among the many benefits to threatened and/or endangered species described in the proposed action are the restoration of sand pine scrub; the restoration of Atlantic coastal dune and mangrove and hammock systems; the reduction of sea turtle predation to significantly improve hatchling survival; and the inventorying and monitoring of federal trust and state-listed species. Key to plan implementation is the development of partnerships with agencies and organizations; the addition of staff and new administrative facilities; the expansion of educational programs at the Hobe Sound Nature Center; and the development of wildlife-dependent recreational opportunities—all in keeping with a wildlife conservation mandate.

Authority: This notice is published under the authority of the National Wildlife Refuge System Improvement Act of 1997, Public Law 105-57.

Dated: October 28, 2003.
J. Mitch King,
Acting Regional Director.

[FR Doc. 04-1558 Filed 1-23-04; 8:45 am]

BILLING CODE 4310-55-M